DEPARTMENT OF ENERGY

Federal Energy Regulatory Commission

Combined Notice of Filings

Take notice that the Commission has received the following Natural Gas Pipeline Rate and Refund Report filings:

Docket Numbers: RP18-295-000.

Applicants: Gulf South Pipeline Company, LP.

Description: Compliance filing Compliance Tariff Filing re CP15-517-000 (Coastal Bend) to be effective 2/1/2018.

Filed Date: 12/29/17.

Accession Number: 20171229-5021.

Comments Due: 5 p.m. ET 1/10/18.

Docket Numbers: RP18-296-000.

Applicants: Gulf South Pipeline Company, LP.

Description: Compliance filing Compliance Negotiated Rate Agmt Tariff Filing re CP15-517-000 (Coastal Bend) to be effective 2/1/2018.

Filed Date: 12/29/17.

Accession Number: 20171229-5025.

Comments Due: 5 p.m. ET 1/10/18.

Docket Numbers: RP18-297-000.

Applicants: Iroquois Gas Transmission System, L.P.

Description: § 4(d) Rate Filing: 122917 154.204 Tariff Filing to be effective 3/1/2018.

Filed Date: 12/29/17.

Accession Number: 20171229-5039.

Comments Due: 5 p.m. ET 1/10/18.

Docket Numbers: RP18-298-000.

Applicants: Columbia Gas Transmission, LLC.

Description: § 4(d) Rate Filing: CCRM 2018 to be effective 2/1/2018.

Filed Date: 12/29/17.

Accession Number: 20171229-5143.

Comments Due: 5 p.m. ET 1/10/18.

Docket Numbers: RP18-298-000.

Applicants: Columbia Gas Transmission, LLC.

Description: § 4(d) Rate Filing: CCRM 2018 to be effective 2/1/2018.

Filed Date: 12/29/17.

Accession Number: 20171229-5144.

Comments Due: 5 p.m. ET 1/10/18.

Docket Numbers: RP18-299-000.

Applicants: Rockies Express Pipeline LLC.

Description: § 4(d) Rate Filing: Neg Rate 2017-12-29 Encana to be effective 12/29/2017.

Filed Date: 12/29/17.

Accession Number: 20171229-5151.

Comments Due: 5 p.m. ET 1/10/18.

Docket Numbers: RP18-300-000.

Applicants: Viking Gas Transmission Company.

Description: § 4(d) Rate Filing: Negotiated Rate PAL Agreement—EDF Trading North America, LLC to be effective 12/29/2017.

Filed Date: 12/29/17.

Accession Number: 20171229-5153.

Comments Due: 5 p.m. ET 1/10/18.

Docket Numbers: RP18-301-000.

Applicants: Iroquois Gas Transmission System, L.P.

Description: § 4(d) Rate Filing: 122917 Negotiated Rates—Mercuria Energy America, Inc. H-7540-89 to be effective 12/29/2017.

Filed Date: 12/29/17.

Accession Number: 20171229-5157.

Comments Due: 5 p.m. ET 1/10/18.

Docket Numbers: RP18-302-000.

Applicants: Iroquois Gas Transmission System, L.P.

Description: § 4(d) Rate Filing: 122917 Negotiated Rates—Consolidated Edison Energy, Inc. H-2275-89 to be effective 12/29/2017.

Filed Date: 12/29/17.

Accession Number: 20171229-5160.

Comments Due: 5 p.m. ET 1/10/18.

Docket Numbers: RP18-303-000.

Applicants: Northern Natural Gas Company.

Description: § 4(d) Rate Filing: 20171229 Negotiated Rate to be effective 1/1/2018.

Filed Date: 12/29/17.

Accession Number: 20171229-5203.

Comments Due: 5 p.m. ET 1/10/18.

Docket Numbers: RP18-304-000.

Applicants: El Paso Natural Gas Company, L.L.C.

Description: § 4(d) Rate Filing: Negotiated Rate Agreement Update (Conoco Jan 2018) to be effective 1/1/2018.

Filed Date: 12/29/17.

Accession Number: 20171229-5211.

Comments Due: 5 p.m. ET 1/10/18.

Docket Numbers: RP18-275-000.

Applicants: El Paso Natural Gas Company, L.L.C.

Description: § 4(d) Rate Filing: 122617 Tariff Filing (Conoco Dec 23, 2017) to be effective 12/23/2017.

Filed Date: 12/26/17.

Accession Number: 20171226-5211.

Comments Due: 5 p.m. ET 1/10/18.

Docket Numbers: PR18-15-000.

Applicants: SCOOP Express.

Description: § 4(d) Rate Filing: Tariff Filing (SCOOP Express Dec, 2017), to be effective 12/22/2017.

Filed Date: 12/22/17.

Accession Number: 2017122-5211.

Comments Due: 5 p.m. ET 1/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2018.
Nathaniel J. Davis Sr.,
Deputy Secretary.

[FR Doc. 2018-00098 Filed 1-5-18; 8:45 am]

BILLING CODE 6717-01-P